POSTAL SERVICE

39 CFR Part 551

Semipostal Stamp Program

AGENCY: Postal Service™.

ACTION: Proposed rule.

SUMMARY: This proposed rule would revise the provisions governing the Postal Service's discretionary Semipostal Stamp Program to provide more flexibility to the Postal Service to manage the program. Revisions include removing restrictions on the duration of sales of semipostal discretionary stamps and the number of discretionary semipostal stamps that may be offered at any one time.

DATES: Comments must be received on or before July 10, 2020.

ADDRESSES: Mail or deliver written comments to the Manager, Stamp Products & Exhibitions, U.S. Postal Service®, 475 L'Enfant Plaza SW, Room 3300, Washington, DC 20260. Email and faxed comments are not accepted. You may inspect and photocopy all written comments at the Stamp Products & Exhibitions office by appointment only between the hours of 9 a.m. and 4 p.m., Monday through Friday, by calling 202-268-7998 in advance.

FOR FURTHER INFORMATION CONTACT: Amity C. Kirby, Manager, Stamp Products & Exhibitions, 202-268-7998, amity.c.kirby@usps.gov.

SUPPLEMENTARY INFORMATION:

Background

The Semipostal Authorization Act, Public Law 106-253, grants the Postal Service discretionary authority to issue and sell semipostal stamps to advance such causes as it considers to be “in the national public interest and appropriate.” See 39 U.S.C. 416(b). On June 12, 2001, the Postal Service published a final rule establishing the regulations in 39 CFR part 551 for the discretionary Semipostal Stamp Program (66 FR 31826). Minor revisions were made to these regulations to implement Public Law 107-67, 115 Stat. 514 (2001), and to reflect minor organizational changes in the Postal Service (67 FR 5215 (February 5, 2002)). On February 19, 2004, the Postal Service published a final rule clarifying the cost-offset policy for semipostal stamps (69 FR 7688), and on February 9, 2005, the Postal Service also published an additional minor clarifying revision to these cost-offset regulations (70 FR 6764). On April 20, 2016, the Postal Service published a final rule removing certain restrictions on the commencement date for the discretionary Semipostal Stamp Program, and clarifying how many discretionary semipostal stamps may be on sale at any one time, and other matters (81 FR 23162).

Proposed Changes

The Postal Service has encountered continued interest in the sale of a previously offered discretionary semipostal stamp for which the Postal Service possesses unsold inventory. The current version of the regulations limits sales of discretionary semipostal stamps to one at a time and a two-year sales period. In administering this program, it has become clear that there is interest in and demand for a lengthier period of sale for individual offerings from customers, stakeholders and congressional policymakers. The current regulations also contemplated issuing five stamps over ten years, which has proven impracticable. Upon further consideration, it was determined that further revision of the rules concerning the discretionary Semipostal Stamp Program could facilitate continued interest in previously offered stamps, especially when unsold inventory remains, and provide the Postal Service greater flexibility to manage the 10-year program.

In accordance with 39 U.S.C. 416(e)(2), the Postal Service invites public comment on the following proposed amendments to the Code of Federal Regulations.

List of Subjects in 39 CFR Part 551

Administrative practice and procedure.

For the reasons stated in the preamble, the Postal Service proposes to revise 39 CFR part 551 as follows:

PART 551—SEMIPOSTAL STAMP PROGRAM

1. The authority citation for part 551 continues to read as follows:

Authority: 39 U.S.C. 101, 201, 203, 401, 403, 404, 410, 414, 416.

2. Amend § 551.3, by revising paragraph (a) to read as follows:

§ 551.3 Procedure for selection of causes and recipient executive agencies.

* * * * *

(a) The Office of Stamp Services will accept proposals from interested persons for future semipostal stamps beginning on May 20, 2016. The Office of Stamp Services will begin considering proposals on July 5, 2016. This section should not be read to reflect the intention of the Postal Service to issue any particular number of semipostal stamps during the 10-year period of these regulations. Proposals may be submitted and will be considered on a rolling basis until seven years after May 20, 2016. The Office of Stamp Services may publicize this request for proposals in the Federal Register or through other means, as it determines in its discretion. Proposals for semipostal stamps made prior to May 20, 2016 will not be given further consideration. Nothing in these regulations should be construed as barring the resubmission of previously submitted causes and recipient executive agencies.

* * * * *

§ 551.5 [Amended]

3. In § 551.5, remove and reserve paragraphs (b) and (c).

Ruth Stevenson,
Attorney, Federal Compliance.

[FR Doc. 2020-12412 Filed 6-9-20; 8:45 am]

BILLING CODE 7710-12-P